DEPARTMENT OF THE TREASURY

Customs Service

Reopening of Application Period for Participation in a National Customs Automation Program Test: First Phase of the Automated Commercial Environment (ACE) for the ACE Account Portal

AGENCY: Customs Service, Treasury.

ACTION: General notice.

SUMMARY: A notice appeared in the Federal Register on May 1, 2002, announcing a 30 day application period for participation in the National Customs Automation Program test of the first phase of the Automated Commercial Environment (ACE) for the Account Portal. The testing of this ACE Account Portal is scheduled to commence no earlier than October 28, 2002 and will run for approximately two years. The test will allow participating importers and authorized parties to access their Customs data via a web-based Account Portal. The test is the first step toward the full electronic processing of commercial importations in the ACE with a focus on defining and establishing the importer's account structure. This document announces a reopening of the application period.

EFFECTIVE DATES: The test application period is reopened until August 1, 2002, for purposes of establishing the initial forty importers to participate in the test. Comments concerning this notice and all aspects of the announced test may be submitted at any time.

ADDRESSES: Written comments regarding this notice may be submitted to Ms. Hedwig Lock at U.S. Customs Service, 2850 Eisenhower Ave.—First Floor, Alexandria, Virginia 22314; e:mail address: eisenhower@customs.treas.gov; FAX number: (703) 329-5235. Applications to participate will only be accepted via e:mail sent to eisenhower@customs.treas.gov.

FOR FURTHER INFORMATION CONTACT: Ms. Hedwig Lock, U.S. Customs Service, Office Of Field Operations, Trade Programs, Commercial Compliance, Account Management; Tel. (703) 317-3657; e:mail address: eisenhower@customs.treas.gov.

SUPPLEMENTARY INFORMATION:

Background

On May 1, 2002, Customs published a general notice in the Federal Register (67 FR 21800) announcing Customs plan to conduct a National Customs Automation Program (NCAP) test of the first phase of the Automated Commercial Environment (ACE) for the Account Portal. The testing of this ACE Account Portal is scheduled to commence no earlier than October 28, 2002 and will run for approximately two years. The test will allow participating importers and authorized parties to access their Customs data via a web-based Account Portal. The test is the first step toward the full electronic processing of commercial importations in the ACE with a focus on defining and establishing the importer's account structure. The Account Portal has the ability to access, manage, and disseminate information in an efficient and secure manner.

Participants in this test will eventually have the opportunity to use the account management functions such as account access to their profile and transactional data via the web portal. Eventually the account owner will also have the option to delegate portal access. In the initial phase of the test program participants will only have access to static data and basic account profile information necessary to establish an account. In the later stages of the test, participants will have access to more extensive operational transaction data through the web portal.

In the notice announcing the test, Customs stated that it planned to select approximately forty importer accounts from the list of qualified applicants for the initial deployment of this test and stated that to be considered as eligible as one of the initial participants, applications must be received by June 1, 2002. (A primary benefit for the initial participants will be an early opportunity to provide direct input into the initial design of the Account Portal.) Customs also stated that additional participants may be selected throughout the duration of this test.

Because of insufficient applications received by Customs within the initial 30-day time frame, Customs is extending the application period until August 1, 2002, for those desiring to be one of the initial participants. While applications for participation may be submitted to Customs at any time, any applications received after Customs has selected forty participants will be considered on a waiting list basis pending expansion of the technology.

Anyone interested in participating in the test should refer to the test notice published in the Federal Register on May 1, 2002, for eligibility and application information.

Dated: June 13, 2002.
Bonni G. Tischler,
Assistant Commissioner, Office of Field Operations.

[FR Doc. 02-15337 Filed 6-17-02; 8:45 am]

BILLING CODE 4820-02-P